ENVIRONMENTAL PROTECTION AGENCY

40 CFR Part 52

[MD082-3048a; FRL-6531-1]

Approval and Promulgation of Air Quality Implementation Plans; Maryland; 15 Percent Rate of Progress Plan for the Baltimore Ozone Nonattainment Area

AGENCY: Environmental Protection Agency (EPA).

ACTION: Direct final rule.

SUMMARY: EPA is taking direct final action to convert its conditional approval of a revision to the Maryland State Implementation Plan (SIP) to a full approval. The revision consists of the 15 percent rate of progress requirements for the Baltimore severe ozone nonattainment area. EPA is also taking direct final action to approve revisions to certain portions of the 1990 base year emissions inventory of volatile organic compound (VOC) and nitrogen oxide (NOx) emissions for the Baltimore nonattainment area. EPA is approving these revisions in accordance with the requirements of the Clean Air Act.

DATES: This rule is effective on March 20, 2000 without further notice, unless EPA receives adverse written comment by March 6, 2000. If EPA receives such comments, it will publish a timely withdrawal of the direct final rule in the Federal Register and inform the public that the rule will not take effect.

ADDRESSES: Written comments should be mailed to David L. Arnold, Chief, Ozone and Mobile Sources Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and Maryland Department of the Environment, 2500 Broening Highway, Baltimore, Maryland, 21224.

FOR FURTHER INFORMATION CONTACT: Kristeen Gaffney, (215) 814-2092, or by e-mail at gaffney.kristeen@epa.gov.

SUPPLEMENTARY INFORMATION:

I. Background

Section 182(b) of Clean Air Act (the Act) requires states with ozone nonattainment areas classified as moderate or higher to submit a plan demonstrating a 15 percent reduction in VOC emissions from 1990 baseline emission levels. These reductions were to be achieved by November 15, 1996. This requirement of the Act demonstrating “rate of progress” (or ROP) toward attainment is known commonly as the “15% Plan.”

The Baltimore ozone nonattainment area consists of the City of Baltimore plus the counties of Anne Arundel, Baltimore, Carroll, Harford, and Howard, and is classified as severe. On July 12, 1995, Maryland submitted a 15% Plan SIP revision for the Baltimore nonattainment area. On October 9, 1997 (62 FR 52661), EPA conditionally approved the Maryland's July 12, 1995 SIP revision of the 15% Plan for the Baltimore nonattainment area because, while on its face, the 15% Plan achieved the required 15% VOC emission reduction to satisfy the requirements of the Act, the plan itself did not provide sufficient documentation on the measures included in the plan for EPA to take action on at that time. Instead, EPA granted conditional approval of the July 12, 1995 15% Plan and ruled that the State must supplement its submittal to demonstrate that it achieved the required emission reductions. EPA's October 9, 1997 rule established the following four conditions for full approval of the Baltimore 15% Plan:

1. Maryland's 15% Plan calculations must reflect the EPA approved 1990 base year emissions inventory (found at 61 FR 50715, September 27, 1996).

2. Maryland must meet the conditions listed in the October 31, 1996 conditional I/M rulemaking notice, including its commitment to remodel the vehicle inspection and maintenance (I/M) reductions using the following two EPA guidance memos: “Date by which States Need to Achieve all the Reductions Needed for the 15 Percent Plan from I/M and Guidance for Recalculation,” memorandum from John Seitz and Margo Oge dated August 13, 1996, and “Modeling 15% VOC Reductions from I/M in 1999—Supplemental Guidance,” memorandum from Gay MacGregor and Sally Shaver dated December 23, 1996.

3. Maryland must remodel to determine affirmatively the creditable reductions from reformulated gasoline (RFG) and federal Tier I vehicle emission standards in accordance with EPA guidance.

4. Maryland must submit a SIP revision amending the 15% Plan with a determination using appropriate documentation methodologies and credit calculations that the 64.2 tons per day (TPD) reduction, supported through creditable emission measures in the submittal, satisfies Maryland's 15% ROP requirement for the Baltimore area.

In a September 4, 1997 letter to EPA, the State committed to meet all the conditions listed in EPA's rulemaking within 12 months of final conditional approval. The State of Maryland submitted a revised 15% Plan for the Baltimore area addressing the conditions on October 7, 1998. Additionally, today's action will approve minor revisions to the SIP approved 1990 base year emissions inventory for NOX and VOC emissions that is used as a basis for demonstrating rate of progress.

II. Summary of the SIP Revision

Maryland's October 7, 1998 submittal of the revised 15% Plan contains the following:

• Emissions projections or projected growth in emissions during the period 1990-1996.

• VOC emissions target level calculation for 1996.

• Description of control measures used to demonstrate the 15 required VOC reduction.

• Revisions to the 1990 base year inventory for VOC and NOX emissions. The inventory was revised in part, in response to EPA's first condition of the October 9, 1997 conditional rulemaking.

III. Base Year Inventory Revisions

The 1990 base year inventory is an inventory of actual VOC, NOX, and carbon monoxide emissions that occurred in Maryland in 1990. This inventory is the basis for calculating future years emissions growth and the required 15% emissions reduction to demonstrate rate of progress. EPA SIP approved Maryland's state-wide 1990 base year inventory on September 27, 1996 (61 FR 50715).

The October 7, 1998 submittal of the revised 15% Plan for the Baltimore nonattainment area references revisions to the 1990 base year inventory submitted as a separate SIP revision to EPA on December 24, 1997. The December 24, 1997 SIP revision contained the Post-1996 Rate of Progress Plan for the Baltimore nonattainment area. As part of the Post-1996 ROP Plan SIP revision, Maryland revised the 1990 base year inventory for both VOC and NOX emissions in the Baltimore nonattainment area. EPA has not yet taken rulemaking action on Maryland's December 24, 1997 Post-1996 ROP Plan submittal. However, because the inventory revisions submitted as part of Post-1996 ROP SIP are also the basis of calculation for the revised 15% Plan target level, EPA will be taking action in today's rulemaking on that portion of the December 24, 1997 SIP revision as it relates solely to the 1990 base year inventory revisions for NOX and VOCs in the Baltimore nonattainment area.

Maryland made several modifications to the earlier emission estimates for VOCs and NOx for point, area and mobile sources. These changes are due to improvements in inventory estimation techniques, the availability of more accurate data, revised estimates of population and employment and other technical improvements. There are no changes to the biogenic VOC emissions portion of the inventory being requested at this time. EPA is approving the requested revisions to the 1990 base year inventories for the Baltimore ozone nonattainment area that were submitted as part of Maryland's December 24, 1997 SIP submittal. Table 1 illustrates the base year inventory revisions that will be approved into the Maryland SIP.

Table 1.—Revised 1990 Base Year Inventory for the Baltimore Nonattainment Area
[Tons per day]
| VOC previously approved | VOC revised | Change | NOX previously approved | NOX revised | Change
Mobile sources | 131.5 | 134.2 | (+2.7) | 161.2 | 159.5 | (−1.7)
Point sources | 40.3 | 42.0 | (+1.7) | 231.3 | 223.2 | (−8.1)
Nonroad sources | 45.2 | 44.7 | (−.5) | 71.58 | 71.5 | (−.1)
Area sources | 127.1 | 122.4 | (−4.7) | 10.6 | 13.7 | (+3.1)
Biogenic sources | 180.1 | 180.09 | 0 | NA | NA | NA
Total | 524.2 | 523.4 | (−.8) | 474.7 | 467.9 | (−6.8)

IV. Calculation of the 15% Reduction Target

Section 182(b) of the Act requires that the SIP achieve a reduction of 15% of the 1990 baseline VOC emissions accounting for any growth in emissions (i.e, growth occurring between 1990 and 1996). EPA issued guidance to the states to assist them in calculating emission reductions necessary for demonstrating ROP. To determine the amount of emissions reductions necessary to demonstrate the 15% ROP requirement, states must first calculate a target level of emissions for 1996. The 1996 target level facilitates planning for the 15% VOC reduction. Maryland has based the calculation of the 1996 target level of emissions on the revised 1990 base year inventory established in Table 1 above. The 15% emissions reduction target level for the Baltimore nonattainment area is calculated in Table 2 below. EPA believes that the VOC 1996 target level of 253.3 tons per day (TPD) for Baltimore has been properly calculated according to EPA guidance and is approveable.

Table 2.—Calculation of 15% Reduction Target Level for the Baltimore Nonattainment Area
[Tons per day]
1990 Base Year Inventory | 523.4
ROP Inventory (adjusted to remove biogenic emissions 180.1 TPD) | 343.3
Non-Creditable Reductions from FMVCP and RVP | (39.7)
RACT “fix-ups” and I/M Corrections | 0.0
1990 Adjusted Base Year Inventory (ROP base year—FMVCP/RVP) | 303.6
15% Reduction Requirement (0.15 × adjusted base year inventory) | (45.5)
Emission reductions from FMVCP and RVP from 1996-1999 (delayed enhanced I/M program adjustment) | (4.8)
1996 Target Level of Emissions (Adjusted base year inventory—15% reduction—FMVCP/RVP 1996-1999) | 253.3
Expected Emissions Growth 1990-1996 | 18.4
Total Emissions Reduction Needed (15% reduction + growth + non-creditable emissions from delayed I/M) | 68.7

V. Growth Projections (1990-1996)

To meet the ROP requirements, reductions must occur to both achieve a 15% reduction in 1990 emission levels plus offset growth in emissions between 1990-1996. These estimates are made by projecting the 1990 base year VOC inventory out to 1996 considering only the current control strategy. The projected inventories must reflect expected growth in activity, as well as regulatory actions which will affect emission levels. EPA recommends that emission projections for point sources be based on information obtained directly from facilities and/or permit applications. Area and mobile source emission projections may be developed from information from local planning agencies. In the absence of source-specific data, credible growth factors must be developed from accurate forecasts of economic variables and the activities associated with the variables. Economic variables that may be used as indicators of activity growth are: product output, value added, earnings, and employment. Population can also serve as a surrogate indicator. According to EPA guidance, economic data and models which provide acceptable growth factors for emission projections include the U.S. Department of Commerce Bureau of Economic Analysis forecasts for states and metropolitan statistical areas; the Economic Growth Analysis System, which models economic growth and estimates corresponding increases in emissions-producing activity; and the Emissions Preprocessor System for urban airshed modeling, which produces spatially and temporally resolved emission inventories for input into urban airshed models.

Maryland's revised 15% Plan submittal for the Baltimore nonattainment area discusses how Maryland projected growth from 1990 to 1996 for each emissions category. The growth projections are based on the revised 1990 base year inventory discussed earlier in this document. The State's methodology for selecting growth factors and applying them to the 1990 base year emissions inventory to estimate growth in emissions from 1990 to 1996 is acceptable for all source categories. Maryland predicts VOC emissions will grow by 18.4 TPD from 1990 to 1996. Maryland's total VOC emissions growth projections are shown in Table 3 below.

Table 3.—1996 Projection Year VOC Inventory by Category, Baltimore Nonattainment Area
Inventory component | 1990 baseline (TPD) | 1996 projection (TPD)
Point Source | 42.0 | 44.6
Area Source | 122.4 | 126.6
Mobile Source | 134.2 | 142.0
Non-road Source | 44.7 | 48.5
Total | 343.3 | 361.7

VI. Evaluation of the State's 15% Plan Control Measures

The 15% Plan for the Baltimore area claims creditable reductions of 85.6 TPD from identified emission control programs. To be creditable, each control measure must meet the creditability requirements of EPA policy and of the Act. A measure is creditable if it is real, quantifiable, permanent, and enforceable. To be enforceable a reduction must meet any one of the following:

1. It must result from a rule in the approved State SIP, or

2. It must result from a rule promulgated by EPA, or

3. It must result from a reduction enforceable under a permit issued pursuant to Title V of the Act.

Emission reductions from rules adopted and implemented before 1990 are not creditable because the base year inventory reflects the effects of these rules. Below is a brief description of each of the control measures in the Baltimore 15% Plan.

A. Stationary Source Controls

1. Federal Air Toxics

This measure addresses sources required to comply with federal air toxics requirements that have or will achieve VOC reductions between 1990 and 1996. Two sources in the Baltimore nonattainment area were required to comply with a federal maximum available control technology (MACT) standard or national emissions standard for hazardous air pollutants (NESHAP) between 1990 and 1996. Maryland claimed 0.4 TPD from this control measure. Credit is allowable from MACTs and NESHAPs; thus, 0.4 TPD from federal air toxics is fully creditable toward the Baltimore 15% Plan.

2. Architectural and Industrial Maintenance Coatings

Under section 183(e) of the Act, EPA was required to study emissions from architectural and industrial maintenance (AIM) coatings operations, group them by order of significance, and establish a schedule to regulate the largest contributors. On September 11, 1998, EPA promulgated a national rule (63 FR 48848) for reducing VOC emissions from architectural coatings. Architectural coatings are commonly applied by consumers and contractors, and include exterior and interior paints, industrial maintenance coatings, wood and roof coatings, primers, and traffic paints. EPA's rule establishes a VOC content limit for 61 categories of architectural coatings. The requirements are based on product reformulation, a pollution prevention method. Manufacturers and importers were required to comply with rule by September 1999. EPA's final regulation is expected to reduce emissions of VOCs by 20%.

EPA has issued several memoranda allowing states to take credit in their 15% Plans from the AIM coatings rule, and also the federal Autobody Refinishing and Consumer/Commercial products rules. The promulgation dates and hence the compliance dates for these rules did not occur by the November 15, 1996 implementation date for the 15% Plan. It is EPA's intention to still allow credit from the federal rules in states 15% Plans for the reasons discussed below.

Disapproval of the 15% Plan because these federal measures were delayed and did not achieve the required reductions by November 15, 1996 would require the SIP to be revised to make up the shortfall. EPA would propose approval of such a remedial measure if the SIP would achieve the 15% level as soon after November 15, 1996 as practicable. EPA believes that Maryland had limited ability to effectuate the reductions from these (or any other measures achieving equivalent reductions) any more expeditiously than EPA was able to promulgate the federal rules.

In the policy memo, “Credit for the 15% Rate-of-Progress Plans for Reductions from the Architectural and Industrial Maintenance (AIM) Coating Rule,” dated March 22, 1995, EPA provided guidance on the expected reductions from the national rule—allowing up to a 20% reduction from the 1990 baseline levels. The March 22, 1995 policy memo was subsequently updated on March 7, 1996 (“Update on the Credit for the 15% Rate-of-Progress Plans for Reductions from the Architectural and Industrial Maintenance (AIM) Coating Rule”) to state that states may still take a 20% emission reduction credit from the AIM coatings rule in their 15% Plans even though the rulemaking has been delayed beyond the November 15, 1996 implementation date specified in the Act for 15% Plan measures. In light of the significant delays EPA experienced in promulgating the AIM rule, EPA has continued to allow the AIM emission reduction credits to count in state 15% Plans. EPA believes that although the compliance date was pushed back to September 1999, the emission reductions from the national AIM rule are still creditable in state 15% Plans. For the purposes of the 15% ROP plan calculations then, EPA will allow Maryland to take credit for any of the federal measures even though the emission reductions from these measures did not occur until after November 15, 1996.

Following both EPA's published guidance and in concurrence with the final AIM rule, Maryland assumed a 20% reduction in VOCs from the AIM rule or a 5.4 TPD reduction. EPA has determined that the 5.4 TPD emission reduction from AIM coatings is creditable toward the 15% ROP Plan requirement for the Baltimore nonattainment area.

3. Consumer and Commercial Products National Rule

Section 183(e) of the Act also required EPA to conduct a study of VOC emissions from consumer and commercial products and to compile a regulatory priority list. EPA is then required to regulate those categories that account for 80% of the consumer product emissions in ozone nonattainment areas. Group I of EPA's regulatory schedule lists 24 categories of consumer products to be regulated by national rule, including personal, household, and automotive products.

On September 11, 1998, EPA issued a final rule (63 FR 48819) to reduce the VOC content of 24 categories of household consumer products by 20% from levels emitted in 1990. Manufacturers must meet the VOC content limits by December 11, 1998 for all products, except pesticides regulated under the Federal Insecticide, Fungicide and Rodenticide Act, which have one year to comply with applicable VOC content limits. EPA policy allows states to claim up to a 20% reduction of total consumer product emissions towards the ROP requirement.

For reasons discussed previously under “Architectural and Industrial Maintenance (AIM) Coatings,” EPA will allow the states to take credit for this measure even though emission reductions from this measure did not occur until after November 15, 1996. Maryland claimed a 20% reduction or the equivalent reduction of 2.6 TPD from their 1996 projected uncontrolled consumer and commercial products emissions in the Baltimore nonattainment area. EPA believes this measure is creditable in Maryland's 15% Plan for the Baltimore nonattainment area.

4. Autobody Refinishing

Maryland has adopted an autobody refinishing regulation, COMAR 26.11.19.23, “Control of VOC Emissions from Vehicle Refinishing.” VOC emissions emanate from the evaporation of solvents used in the coating, drying and clean-up process. Maryland's autobody refinishing regulation was approved into the SIP on August 4, 1997 (62 FR 41853). This state rule assumes a 45% reduction (5.3 TPD) from 1996 projected uncontrolled autobody emissions in the Baltimore area. These reductions are creditable toward the ROP requirement.

5. Lithographic Printing

This measure regulates emissions from formerly uncontrolled small lithographic printing operations, such as heatset web, non-heatset web, non-heatset sheet-fed, and newspaper non-heatset web operations. VOCs are emitted from the inks, fountain solutions and solvents used to clean the printing presses. Maryland's rule to control VOC emissions from lithographic printing operations (COMAR 26.11.19.11) was approved into the SIP on September 2, 1997 (62 FR 46199). VOC emissions are controlled from lithographic printers by limiting the allowable amount of isopropyl alcohol in the fountain solution. The 0.5 TPD VOC emission reductions achieved through this measure are creditable.

6. Surface Cleaning and Degreasing

This measure controls VOC emissions from surface cleaning/degreasing operations that fall into the area source category. Maryland amended existing regulations for surface cleaning devices and operations to require more stringent emission control requirements and enlarge the field of applicable sources. Maryland's more stringent surface cleaning and degreasing regulation (COMAR 26.11.19.09) was approved into the SIP on August 4, 1997 (62 FR 41853). Surface cleaning/degreasing operations impacted include, gasoline stations, autobody paint shops and machine shops that fall into the area source category. VOC emissions are controlled by requiring the reformulation of cold degreasers to either aqueous solutions or low VOC formulations. Maryland estimates that this rule reduces VOC emissions by 70%. Maryland claims 7.3 TPD reduction in the 15% Plan for the Baltimore nonattainment area from surface cleaning and degreasing controls. These reductions are creditable toward the 15% ROP requirement.

7. Landfill Emission Controls

According to Maryland's revised 15% Plan for the Baltimore area, this control measure relies on a federal rule to regulate emissions from municipal landfills. The 15% Plan states that “the Department expects to promulgate a regulation requiring the use of a collection and control system or energy recovery system that would control VOC emissions at landfills by 98%.” However, neither a state rule nor a federal rule was promulgated to control landfill emissions by November 15, 1996. Guidelines for the approvability of reductions credible for rate-of-progress plans dictate that the emission reductions be federally enforceable. Because there was no federal program nor any federally-approved state program to require controls on municipal landfills prior to November 15, 1996, the emission reductions claimed through this measure are not creditable toward the 15% ROP Plan. The 0.2 TPD VOC emission reductions claimed for the Baltimore nonattainment area in the revised 15% Plan are not approvable for the purposes of satisfying the 15% Plan requirements.

8. Enhanced Rule Compliance

This measure increases the effectiveness of existing regulations by enhancing rule compliance through increased or enhanced inspections and other enforcement activities. Maryland has targeted rule effectiveness (RE) improvement at tank truck unloading operations at gasoline dispensing facilities and at specified bulk terminals. Specific measures that Maryland used to enhance rule effectiveness at the targeted sources include increased administrative and civil penalties; enhanced monitoring; quarterly reporting requirements for sources; workshops; increased inspector training; increased source inspections and mandatory follow-up of violations. Maryland estimates that these enhancements improve rule effectiveness at the affected source categories to 92%, or 12% above EPA's default RE value of 80%. The increase in rule effectiveness results in an additional emission reduction benefit of 4.5 TPD in the Baltimore area. This program is enforceable under the State's Title V permit program. These reductions are creditable toward ROP in Baltimore.

9. State Air Toxics

This measure addresses facilities that are regulated under Maryland's air toxics program that have achieved VOC reductions above and beyond current federally enforceable limits. In general, Maryland's air toxics regulations cover any source required to obtain a permit to construct or an annually renewed state permit to operate. Maryland claimed 0.9 TPD from state air toxics. This measure is creditable and enforceable under the State's Title V permit program.

10. RACT Controls

According to the Act, states are required to adopt reasonably available control technology (RACT) for specific source categories covered by a control technique guideline that has been published by EPA or listed in the Act, and for all other major sources. RACT consists of a variety of control techniques that are generally available and cost effective. Maryland is claiming a total of 1.7 TPD from RACT controls implemented post-1990 on four source categories: expandable polystyrene operations, yeast production, bakeries, and screen printing operations. Maryland's RACT regulations for each of these categories have been approved into the SIP. EPA has determined the 1.7 TPD are creditable emission reductions in the 15% Plan for the Baltimore area.

11. Seasonal Open Burning Ban

Maryland has amended COMAR 26.11.07 to institute a ban on open burning during the peak ozone season in Maryland's severe and serious ozone nonattainment areas. Maryland considers the months of June, July, and August the peak ozone season, because that is when ambient levels of ozone in Maryland are usually the highest. During the peak ozone season, the practice of burning for the disposal of brush and yard waste as a method of land clearing will be banned reducing VOC emissions. During the remainder of the year (September 1—May 31), Maryland's existing open fire regulations apply. This ban was adopted on May 1, 1995, and effective on May 22, 1995. EPA approved the ban on open burning into the Maryland SIP on January 31, 1997. The State of Maryland estimates a 3.6 TPD reduction in VOCs emissions from the ban on open burning. These reductions are creditable in the 15% Plan.

B. Mobile Source Controls

Maryland used EPA's emissions model MOBILE5b to determine the amount of VOC emission reductions that will occur by 1996 from all mobile source control measures contained in the emissions model. These measures, each discussed briefly below, include Stage II vapor recovery systems, reformulated gasoline, the enhanced I/M program and federal Tier 1 emission standards. MOBILE5b generates a lump sum emission reduction total for all emission control programs. In the Baltimore nonattainment area, the combined VOC emission reduction in 1996 from all mobile source controls is 53.2 TPD. Maryland has adopted and implemented all the mobile source controls discussed below and where necessary, EPA has approved Maryland's regulations into the SIP. EPA has determined that Maryland has correctly estimated the emission reductions generated through mobile source control programs by using the MOBILE5b emissions model. The 53.2 TPD VOC reduction is creditable toward the 15% requirement.

1. Stage II Vapor Recovery

Section 182(b)(3) of the Act requires all owners and operators of gasoline dispensing systems in moderate and above ozone nonattainment areas to install and operate a system for gasoline vapor recovery (known as Stage II) of emissions from the fueling of motor vehicles. Stage II vapor recovery is a control measure which substantially reduces VOC emissions during the refueling of motor vehicles at gasoline service stations. The Stage II vapor recovery nozzles at gasoline pumps capture the gasoline-rich vapors displaced by liquid fuel during the refueling process. Maryland's Stage II regulation was approved into the SIP on June 9, 1994.

2. Reformulated Gasoline

Section 211(k) of the Act requires that only reformulated gasoline (RFG) be sold or dispensed in severe and above ozone nonattainment areas after January 1, 1995. Thus, RFG is required in the Baltimore severe ozone nonattainment area. This gasoline is reformulated to burn cleaner and produce fewer evaporative emissions. EPA enforces this program so the emission reductions are fully creditable. The benefits of RFG are also realized in off-road gasoline engines, such as lawn maintenance equipment and motor boats.

3. Enhanced Vehicle Inspection and Maintenance

Under section 182(c) of the Act, the Baltimore nonattainment area was required to adopt an enhanced vehicle inspection and maintenance program. Enhanced I/M programs reduce the emissions created by vehicles through periodic testing and, if needed, repair, of the vehicle's tailpipe emissions and evaporative systems.

Most of the 15% Plan SIPs originally submitted to the EPA contained enhanced I/M programs because this program achieves more VOC emission reductions than most, if not all other, control strategies. However, because most states experienced substantial difficulties implementing the enhanced I/M program using their original enhanced I/M protocols, most states did not begin actually testing cars until after the Clean Air Act implementation date.

In September 1995, EPA finalized revisions to its enhanced I/M rule allowing states significant flexibility in designing I/M programs appropriate for their needs (60 FR 48029). Subsequently, Congress enacted the National Highway Systems Designation Act of 1995 (NHSDA), which provided states with additional flexibility in determining the design of enhanced I/M programs. The substantial amount of time needed by states to re-design enhanced I/M programs in accordance with the NHSDA, to secure state legislative approval where necessary, and set up the infrastructure to perform the testing program precluded states that revised their enhanced I/M programs from obtaining emission reductions by November 15, 1996.

Given that many states, including Maryland, rely heavily upon enhanced I/M programs to help achieve the 15% VOC emissions reduction, and that the NHSDA and regulatory changes regarding enhanced I/M programs delayed their implementation, EPA believes that it was not possible for many states to achieve the portion of the 15% reductions that are attributed to I/M by November 15, 1996. Under these circumstances, disapproval of the 15% SIPs would serve no purpose. Consequently, under certain circumstances, EPA proposed to allow states that pursue re-design of enhanced I/M programs to receive emission reduction credit from these programs within their 15% Plans, even though the emissions reductions from the I/M program will occur after November 15, 1996. The provisions for crediting reductions for enhanced I/M programs is contained in two EPA policy memoranda: “Date by which States Need to Achieve all the Reductions Needed for the 15 Percent Plan from I/M and Guidance for Recalculation,” note from John Seitz and Margo Oge, dated August 13, 1996, and “Modeling 15 Percent VOC Reductions from I/M in 1999—Supplemental Guidance,” memorandum from Gay MacGregor and Sally Shaver, dated December 23, 1996. For the purposes of 15% Plan calculations then, EPA will allow Maryland to take credit for the enhanced I/M program even though the emission reductions from this program did not occur until after November 15, 1996.

In the case of the Baltimore nonattainment area, Maryland's 15% Plan SIP takes credit for the amount of reductions achieved by I/M through November 1999. Maryland's enhanced I/M program is a biennial program that meets the performance standards attributable to a “high enhanced” program. Maryland began testing cars under the enhanced program in October 1997. But because Maryland's program is biennial it will take two years to complete one full cycle of testing. EPA guidance allows states to assume credit from the enhanced I/M program through 1999 in the 15% Plan SIPs (see “Modelling 15 Percent VOC Reductions from I/M in 1999—Supplemental Guidance”, memorandum from Gay MacGregor and Sally Shaver, dated December 23, 1996.) EPA converted its conditional approval of Maryland's enhanced I/M program to a full approval on October 29, 1999 (64 FR 58340).

4. Tier I New Vehicle Standards

The Act required EPA to issue Federal Motor Vehicle Control Program (Tier I) standards for new motor vehicles. The Tier I standards include exhaust (“tailpipe”) emission standards and better evaporative emission controls demonstrated through new federal evaporative test procedures. EPA promulgated the Tier I standards on June 5, 1991 (56 FR 25724). These Tier I standards were phased in beginning with model year 1994 vehicles and is a federally enforceable program. On average, Tier I cars will emit 0.077 fewer grams of VOCs per mile than older cars.

Table 4.—Summary of Control Measures in the 15% Plan for the Baltimore Ozone Nonattainment Area
Control measure | VOC reductions (TPD) | SIP approved by EPA | Creditable for 15%
Graphic Arts | 0.5 | SIP approved September 2, 1997 [62 FR 46199] | Yes.
RACT—Polystyrene Products | 0.1 | SIP approved October 15, 1997 [62 FR 53544] | Yes.
RACT—Yeast Production | 0.5 | SIP approved October 15, 1997 [62 FR 53544] | Yes.
RACT—Bakeries | 0.6 | SIP approved October 15, 1997 [62 FR 53544] | Yes.
RACT—Screen Printing | 0.5 | SIP approved October 15, 1997 [62 FR 53544] | Yes.
Surface Cleaning/Degreasing | 7.3 | SIP approved August 4, 1997 [62 FR 41853] | Yes.
Autobody Refinishing | 5.3 | SIP approved August 4, 1997 [62 FR 41853] | Yes.
Landfill Controls |  |  | No.
Enhanced Rule Compliance | 4.5 | Implemented through Title V permits | Yes.
State Air Toxics | 0.9 | Implemented through Title V permits | Yes.
Open Burning Ban | 3.6 | SIP approved January 31, 1997 | Yes.
AIM Coatings | 5.4 | Federal rule | Yes.
Consumer & Commercial Products | 2.6 | Federal rule | Yes.
Federal Air Toxics | 0.4 | Federal rules—MACT standards for Coke Ovens and Benzene NESHAP | Yes.
Mobile Source Controls | 53.2 | RFG—Federal rule | Yes.
RFG Enhanced I/M Stage 2 Tier 1 Tier 1 standards |  | Enhanced I/M—SIP approved October 29, 1999 [64 58340] Stage 2—SIP approved 6/9/94. Tier 1—Federal Rule. | Yes.
Total Creditable Emission Reductions | 85.4

VII. Remedying the Conditions for Full Approval

The conditions established for full approval of the Baltimore area 15% Plan were established in EPA's final conditional rulemaking on October 9, 1997 (62 FR 52661). Each of these conditions are discussed below. In response to the conditional rulemaking, Maryland submitted a revised 15% Plan for the Baltimore nonattainment area. All of the conditions have been satisfied in Maryland's revised submittal, and therefore, EPA is approving Maryland's October 7, 1998 15% Plan submittal for the Baltimore nonattainment area. Conditions of the October 9, 1997 rulemaking:

1. Maryland's 15% plan calculations must reflect the EPA approved 1990 base year emissions inventory.

Remedy: Maryland has revised the 1990 base year emissions inventory for the nonattainment area. The revised inventory is used as a basis for calculating the 15% target level according to EPA guidance. As part of today's rulemaking, EPA is also approving revisions to the base year inventory submitted by Maryland and therefore, this condition has been satisfied.

2. Maryland must meet the conditions listed in the October 31, 1996 conditional I/M rulemaking notice, including remodeling the reductions associated with I/M following EPA guidance.

Remedy: Maryland met all the conditions of EPA's October 31, 1996 conditional rulemaking on Maryland's enhanced I/M program. EPA fully approved the enhanced I/M program into the Maryland SIP on October 29, 1999 (64 FR 58340). Additionally, Maryland has remodeled the creditable emission reductions following EPA guidance documents and using EPA's MOBILE5b emissions model. This condition has been satisfied.

3. Maryland must remodel to determine affirmatively the creditable reductions from RFG and Tier 1 in accordance with EPA guidance.

Remedy: Maryland has remodeled all mobile source emission control programs, including RFG and Tier 1 following EPA guidance documents and using EPA's MOBILE5b emissions model. This condition has been satisfied.

4. Maryland must submit a SIP revision amending the 15% plan with a determination using appropriate documentation methodologies and credit calculations that satisfies Maryland's 15% ROP requirement.

Remedy: Maryland's revised 15% Plan submittal contains adequate documentation on VOC control measures to demonstrate the 15% reduction. All of the measures, except controls on landfills, have been adopted and implemented by the State and, where necessary, approved into the Maryland SIP. As documented in Table 2, “Calculation of 15% Reduction Target Level”, to satisfy the 15% reduction target plus offset emissions growth during the period 1990-1996, Maryland must demonstrate a total reduction 68.7 TPD in VOC emissions. The control measures described in Maryland's 15% Plan produce 85.4 TPD in creditable VOC emission reductions, far more than the amount needed. Therefore, Maryland's plan satisfies the requirements of section 182(b)(1) of the Act and is approvable. This condition has also been satisfied.

A more detailed description of the state submittal and EPA's evaluation are included in a Technical Support Document (TSD) prepared in support of this rulemaking action. A copy of the TSD is available, upon request, from the EPA Regional Office listed in the ADDRESSES section of this document

EPA is publishing this rule without prior proposal because the Agency views this as a noncontroversial amendment and anticipates no adverse comment. However, in the “Proposed Rules” section of today's Federal Register, EPA is publishing a separate document that will serve as the proposal to approve the SIP revision if adverse comments are filed. This rule will be effective on March 20, 2000 without further notice unless EPA receives adverse comment by March 6, 2000. If EPA receives adverse comment, EPA will publish a timely withdrawal in the Federal Register informing the public that the rule will not take effect. EPA will address all public comments in a subsequent final rule based on the proposed rule. EPA will not institute a second comment period on this action. Any parties interested in commenting must do so at this time.

VIII. Final Action

EPA is converting its conditional approval of the 15% Plan for the Baltimore area to a full approval based upon Maryland's October 7, 1998 SIP revision of the 15% Plan for the Baltimore area. EPA is also approving revisions to the 1990 base year emissions inventory for the Baltimore nonattainment area submitted on December 24, 1997 as part of the Post-1996 Rate of Progress Plan for the Baltimore and Cecil County nonattainment areas.

IX. Administrative Requirements

A. General Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings’’ issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

Under section 307(b)(1) of the Clean Air Act, petitions for judicial review of this action to convert the conditional approval of the 15% ROP Plan for the Baltimore nonattainment area to a full approval must be filed in the United States Court of Appeals for the appropriate circuit by April 3, 2000. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Hydrocarbons, Nitrogen dioxide, Ozone.

Dated: January 14, 2000.
Bradley M. Campbell,
Regional Administrator, Region III.

40 CFR part 52 is amended as follows:

PART 52—[AMENDED]

1. The authority citation for part 52 continues to read as follows:

Authority: 42 U.S.C. 7401 et seq.

Subpart V—Maryland

§ 52.1072 [Amended]

2. In section 52.1072, paragraph (c) is reserved.

3. Section 52.1075 is amended by adding paragraph (g) to read as follows:

§ 52.1075 1990 base year emission inventory.

* * * * *

(g) EPA approves revisions to the Maryland State Implementation Plan amending the 1990 base year emission inventories for the Baltimore ozone nonattainment area, submitted by the Secretary of Maryland Department of the Environment on December 24, 1997. This submittal consists of amendments to the 1990 base year point, area, highway mobile and non-road mobile source emission inventories for volatile organic compounds and nitrogen oxides in the Baltimore ozone nonattainment area.

4. Section 52.1076 is amended by adding paragraph (c) to read as follows:

§ 52.1076 Control strategies: ozone.

* * * * *

(c) EPA approves as a revision to the Maryland State Implementation Plan, the 15 Percent Rate of Progress Plan for the Baltimore ozone nonattainment area, submitted by the Secretary of Maryland Department of the Environment on October 7, 1998.

[FR Doc. 00-2175 Filed 2-2-00; 8:45 am]

BILLING CODE 6560-50-P